DEPARTMENT OF ENERGY

Federal Energy Regulatory Commission

[Project No. 14635-000]

Village of Gouverneur; Notice of Intent To File License Application, Filing of Pre-Application Document, Approving Use of the Traditional Licensing Process

a. Type of Filing: Notice of Intent to File License Application and Request to Use the Traditional Licensing Process.

b. Project No.: 14635-000.

c. Date Filed: September 10, 2014.

d. Submitted By: Village of Gouverneur.

e. Name of Project: Gouverneur Hydroelectric Project.

f. Location: On the Oswegatchie River, in St. Lawrence County, New York. No federal lands are occupied by the project works or located within the project boundary.

g. Filed Pursuant to: 18 CFR 5.3 of the Commission's regulations.

h. Potential Applicant Contact: Robert Leader, Case & Leader LLP, 107 East Main Street, Gouverneur, NY 13642; (315) 287-2000.

i. FERC Contact: Jody Callihan at (202) 502-8278; or email at jody.callihan@ferc.gov.

j. Village of Gouverneur (Gouverneur) filed its request to use the Traditional Licensing Process on September 10, 2014. Gouverneur provided public notice of its request on September 12, 2014. In a letter dated December 16, 2014, the Director of the Division of Hydropower Licensing approved Gouverneur's request to use the Traditional Licensing Process.

k. With this notice, we are initiating informal consultation with the U.S. Fish and Wildlife Service under section 7 of the Endangered Species Act and the joint agency regulations thereunder at 50 CFR, part 402. We are also initiating consultation with the New York State Historic Preservation Officer, as required by section 106, National Historic Preservation Act, and the implementing regulations of the Advisory Council on Historic Preservation at 36 CFR 800.2.

l. Gouverneur filed a Pre-Application Document (PAD; including a proposed process plan and schedule) with the Commission, pursuant to 18 CFR. 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the offices of the Village of Gouverneur, 33 Clinton Street, Gouverneur, NY 13642.

n. Register online at http://www.ferc.gov/docs-filing/esubscription.asp to be notified via email of new filings and issuances related to this or other pending projects. For assistance, contact FERC Online Support.

Dated: December 16, 2014.
Kimberly D. Bose,
Secretary.

[FR Doc. 2014-29951 Filed 12-22-14; 8:45 am]

BILLING CODE 6717-01-P